DEPARTMENT OF ENERGY

Federal Energy Regulatory Commission

[Docket No. RP96-312-031]

Tennessee Gas Pipeline Company; Notice of Compliance Filing

August 28, 2000.

Take notice that on August 22, 2000 Tennessee Gas Pipeline Company (Tennessee), P.O. Box 2511, Houston, Texas 77252, tendered for filing and acceptance an executed copy of a transportation service agreement between Tennessee and Nicor Gas (“Nicor”). Tennessee states that the purpose of the filing is to comply with the Federal Energy Regulatory Commission's (“Commission”) June 29, 2000 Letter Order in the referenced proceeding. Tennessee further states that the attached transportation agreement will become effective November 1, 2000.

Any person desiring to protest this filing should file a protest with the Federal Energy Regulatory Commission, 888 First Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-22415 Filed 8-31-00; 8:45 am]

BILLING CODE 6717-01-M